DEPARTMENT OF JUSTICE

Notice of Lodging of Consent Decree Pursuant to the Comprehensive Environmental Response, Compensation and Liability Act

In accordance with 29 CFR 50.7 and Section 122 of the Comprehensive Response, Compensation and Liability Act (“CERCLA”), 42 U.S.C. 9622, the Department of Justice gives notice that a proposed consent decree, in United States v. Lord Crop. et al., Civil No. 4:89-CV-2001 (N.D. Ohio), was lodged with the United States District Court for the Northern District of Ohio on August 16, 2000, pertaining to the New Lyme Landfill Superfund Site (the “Site”), located in Ashtabula County, Ohio. The proposed consent decree would resolve the United States' civil claims under Sections 106 and 107 of CERCLA, 42 U.S.C. 9606 and 9607, and Section 7003 of the Solid Waste Disposal Act, as amended (“RCRA”), 42 U.S.C. 6973, against 12 defendants, and claims asserted against 49 third-party defendants named in this action.

Under the proposed consent decree, 11 Settling Performing Parties (Amcast Industrial Corp., General Electric Co., Lord Corp., Meritor Automotive, Inc., Molded Fiberglass Cos., Monogram Industries, Inc., PPG Industries, Inc., Premix, Inc., Reliance Electric Co., Waste Management of Pennsylvania, Inc.) would be obligated to finance and perform the remedy modification and operation and maintenance of the remedial action at the Site as specified in the Record of Decision (“ROD”), as modified by U.S. Environmental Protection Agency's (“EPA's”) ROD Amendment, issued November 16, 1999, at an estimated net present value cost of $800,000. The Settling Performing Parties would be required to reimburse the Superfund $16.2 million, plus 90% of interest accrued on settlement amounts deposited in a commercial escrow account, toward the United States' past costs at the Site. The Settling Performing Parties would be required to reimburse the State of Ohio (the “State”) $1.8 million, plus 10% of interest accrued on settlement amounts deposited in commercial escrow account, toward the State's past costs at the Site. In addition, the Settling Performing Parties would be required to reimburse EPA's and the State's future response costs at the Site as well as documented oversight costs accruing since December 1, 1996. The remaining settling parties have been designated as Settling Non-Performing Parties or Settling De Minimis Parties and will pay amounts to the Settling Performing Parties in facilitation of the Settling Performing Parties' obligations under the proposed consent decree.

The Department of Justice will receive, for a period of thirty (30) days from the date of this publication, comments relating to the proposed consent decree. Comments should be addressed to the Assistant Attorney General, Environment and Natural Resources Division, United States Department of Justice, Washington, DC 20530, and should refer to United States v. Lord Corp., Civil No. 4:89-CV-2001 (N.D. Ohio), and DOJ Reference No. 980-11-2-502. Commenters may request an opportunity for a public meeting in the affected area, in accordance with Section 7003(d) of RCRA, 42 U.S.C. 6973(d).

The proposed consent decree may be examined at: (1) the Office of the United States Attorney for the Northern District of Ohio, 1800 Bank One Center, 600 Superior Avenue East, Cleveland, Ohio 44114-2600 (216-622-3600); and (2) the United States Environmental Protection Agency (Region 5), 77 West Jackson Boulevard, Chicago, Illinois 60604-3590 (contract: Jeffrey Cahn (312-886-6670)). A copy of the proposed consent decree may be obtained by mail from the Consent Decree Library, U.S. Department of Justice, P.O. Box 7611, Washington DC 20044-7611. In requesting a copy, please refer to the referenced case and DOJ Reference Number and enclose a check in the amount of $32.00 for the consent decree only (156 pages at 25 cents per page reproduction costs), or $63.00 for the consent decree and all appendices (252 pages), made payable to the Consent Decree Library.

Bruce S. Gelber,
Deputy Chief, Environmental Enforcement Section, Environment and Natural Resources Division.

[FR Doc. 00-22453 Filed 8-31-00; 8:45 am]

BILLING CODE 4410-15-M